DEPARTMENT OF HOMELAND SECURITY

Coast Guard

33 CFR Part 117

[Docket No. USCG-USCG-2023-0652]

RIN 1625-AA09

Drawbridge Operation Regulation; Atlantic Intracoastal Waterway, Jupiter, FL

AGENCY: Coast Guard, DHS.

ACTION: Temporary interim rule with request for comments.

SUMMARY: The Coast Guard is temporarily modifying the operating schedule that governs the Indiantown Road Bridge across the Atlantic Intracoastal Waterway (AICW), mile 1006.2, at Jupiter, FL. The bridge is currently operating under a temporary final rule (TFR) allowing the drawbridge to remain closed to navigation during designated times daily including weekends, to alleviate vehicle traffic congestion caused by the replacement of an adjacent bridge. Based on observed roadway traffic, it has been determined that bridge closures on the weekend and Federal holidays is not necessary.

DATES: This temporary interim rule is effective from October 25, 2024 through 11:59 p.m. on August 31, 2025.

Comments and related material must reach the Coast Guard on or before November 25, 2024.

ADDRESSES: To view documents mentioned in this preamble as being available in the docket, go to https://www.regulations.gov. Type the docket number USCG-2023-0652 in the “SEARCH” box and click “SEARCH”. In the Document Type column, select “Supporting & Related Material”.

FOR FURTHER INFORMATION CONTACT: If you have questions on this temporary interim rule, call or email Mr. Leonard Newsom, Seventh District Bridge Branch, Coast Guard; telephone (571) 613-1816, email Leonard.D.Newsom@uscg.mil.

SUPPLEMENTARY INFORMATION:

I. Table of Abbreviations

CFR Code of Federal Regulations

DHS Department of Homeland Security

FR Federal Register

OMB Office of Management and Budget

NPRM Notice of proposed rulemaking

Pub. L. Public Law

§ Section

U.S.C. United States Code

FL Florida

AICW Atlantic Intracoastal Waterway

FDOT Florida Department of Transportation

TFR Temporary Final Rule

TIR Temporary Interim Rule

II. Background Information and Regulatory History

The Coast Guard is issuing this temporary interim rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b), the Coast Guard finds that good cause exists for not publishing a notice of proposed rulemaking (NPRM) with respect to this rule because it is contrary to the public interest to delay the issuance of the rule and the beneficial impacts it provides to the local community and users of the waterway. The bridge is currently allowed to remain closed to navigation, daily, during designated times to assist with vehicle congestion. FDOT has determined the bridge need not remain closed to navigation during the designated times on weekends and Federal holidays until the TFR expires on August 31, 2025.

On February 2, 2024, the Coast Guard published a TFR entitled “Drawbridge Operation Regulation; Atlantic Intracoastal Waterway, at Jupiter, FL” in the Federal Register (89 FR 7287) which allowed the bridge owner, FDOT to deviate from the current operating schedule in 33 CFR 117.261(q) to alleviate vehicle traffic congestion on the Indiantown Road Bridge caused by the replacement of an adjacent bridge.

The Coast Guard is soliciting comments on this rulemaking during the first 30 days of this rule going into effect. If the Coast Guard determines that changes to the temporary interim rule are necessary, we will publish a temporary final rule or other appropriate document.

Under 5 U.S.C. 553(d)(3), the Coast Guard finds that good cause exists for making this rule effective upon publication in the Federal Register. For reasons presented above, delaying the effective date of this rule would be impracticable and contrary to the public interest due to the fact that an increase in marine traffic is noticed on weekends and Federal holidays when vehicle congestion is not significant. Allowing the drawbridge to remain closed during designated times for vehicle congestion is not necessary for weekends and Federal holidays.

III. Legal Authority and Need for Rule

The Coast Guard is issuing this temporary interim rule under authority in 33 U.S.C. 499. The Indiantown Road Bridge across the AICW, mile 1006.2, at Jupiter, FL is a double-leaf bascule bridge with 35 feet of vertical clearance in the closed position. The Indiantown Road Bridge normally operates under § 117.261(q); however, paragraph (q) has been stayed and a temporary paragraph (p) was issued to alleviate vehicle traffic congestion on the Indiantown Road Bridge caused by the replacement of an adjacent bridge.

The bridge is currently allowed to remain closed to navigation during designated times daily until 11:59 p.m. on August 31, 2025. On June 25, 2024, the Coast Guard was notified by the bridge owner, Florida Department of Transportation (FDOT), that the modified schedule was not required on weekends and Federal holidays as vehicle congestion is not significant. FDOT has requested the Coast Guard remove the weekend and Federal holiday restrictions.

IV. Discussion of the Temporary Interim Rule

The Coast Guard is issuing this rule, which permits a temporary deviation from the temporary final rule that governs the Indiantown Road Bridge across the AICW, mile 1006.2, at Jupiter, FL. This rule allows the bridge to open on the hour and half hour on weekends and Federal holiday through August 31, 2025. This temporary interim rule is necessary to meet the reasonable needs of navigation until construction of an adjacent bridge is completed. 33 CFR 117.261(q) will remain stayed until 11:59 p.m. on August 31, 2025, and the current temporary paragraph (p) will be revised to reflect the new temporary operating schedule.

V. Regulatory Analyses

We developed this temporary interim rule after considering numerous statutes and Executive Orders related to rulemaking. Below we summarize our analyses based on a number of these statutes and Executive Orders.

A. Regulatory Planning and Review

Executive Orders 12866 and 13563 direct agencies to assess the costs and benefits of available regulatory alternatives and, if regulation is necessary, to select regulatory approaches that maximize net benefits. This rule has not been designated a “significant regulatory action,” under Executive Order 12866, as amended by Executive Order 14094 (Modernizing Regulatory Review). Accordingly, it has not been reviewed by the Office of Management and Budget (OMB).

This regulatory action determination is based on the ability that vessels able to transit the bridge while in the closed position may do so at any time.

B. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the bridge may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule calls for no new collection of information under the Paperwork Reduction Act of 1995 (44 U.S.C. 3501-3520).

D. Federalism and Indian Tribal Government

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Management Directive 023-01, Rev.1, associated implementing instructions, and Environmental Planning Policy COMDTINST 5090.1 (series) which guide the Coast Guard in complying with the National Environmental Policy Act of 1969 (NEPA)(42 U.S.C. 4321-4370f). The Coast Guard has determined that this action is one of a category of actions that do not individually or cumulatively have a significant effect on the human environment. This rule promulgates the operating regulations or procedures for drawbridges and is categorically excluded from further review, under paragraph L49, of Chapter 3, Table 3-1 of the U.S. Coast Guard Environmental Planning Implementation Procedures.

Neither a Record of Environmental Consideration nor a Memorandum for the Record are required for this rule.

VI. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

We encourage you to submit comments through the Federal Decision-Making Portal at https://www.regulations.gov. To do so, go to https://www.regulations.gov, type USCG-2023-0652 in the search box and click “Search.” Next, look for this document in the Search Results column, and click on it. Then click on the Comment option. If your material cannot be submitted using https://www.regulations.gov, contact the person in the FOR FURTHER INFORMATION CONTACT section of this document for alternate instructions.

To view documents mentioned in this rule as being available in the docket, find the docket as described in the previous paragraph, and then select “Supporting & Related Material” in the Document Type column. Public comments will also be placed in our online docket and can be viewed by following instructions on the https://www.regulations.gov Frequently Asked Questions web page. We review all comments received, but we will only post comments that address the topic of the rule. We may choose not to post off-topic, inappropriate, or duplicate comments that we receive. Additionally, if you click on the” Dockets” tab and then the rule, you should see a “Subscribe” option for email alerts. Selecting this option will enable notifications when comments are posted, or if/when a final rule is published.

We accept anonymous comments. Comments we post to https://www.regulations.gov will include any personal information you have provided. For more about privacy and submissions in response to this document, see DHS's eRulemaking System of Records notice (85 FR 14226, March 11, 2020).

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; Department of Homeland Security Delegation No. 00170.1. Revision No. 01.3

2. Section 117.261 is amended by revising paragraph (p).

§ 117.261 Atlantic Intracoastal Waterway from St. Marys River to Key Largo.

* * * * *

(p) Indiantown Road Bridge, mile 1006.2, at Jupiter. The draw shall open on the hour and half hour except that the draw need not open from 7 a.m. to 9 a.m. and 4 p.m. to 6 p.m., Monday through Friday except Federal holidays until 11:59 p.m. on August 31, 2025.

* * * * *

Dated: October 18, 2024.
Douglas M. Schofield,
Rear Admiral, U.S. Coast Guard, Commander, Coast Guard Seventh District.

[FR Doc. 2024-24711 Filed 10-24-24; 8:45 am]

BILLING CODE 9110-04-P